Title 3—

The President

Executive Order 13431 of May 8, 2007

Establishment of Temporary Organization To Facilitate United States Government Assistance for Transition in Iraq

By the authority vested in me as President by the Constitution and the laws of the United States of America, including section 202 of the Revised Statutes (22 U.S.C. 2656) and section 3161 of title 5, United States Code, it is hereby ordered as follows:

Section 1. Establishment. There is established within the Department of State, in accordance with section 3161 of title 5, United States Code, a temporary organization to be known as the Iraq Transition Assistance Office (ITAO).

Sec. 2. Purpose of the Temporary Organization. The purpose of the ITAO shall be to perform the specific project of supporting executive departments and agencies in concluding remaining large infrastructure projects expeditiously in Iraq, in facilitating Iraq's transition to self-sufficiency, and in maintaining an effective diplomatic presence in Iraq.

Sec. 3. Functions of the Temporary Organization. In carrying out its purpose set forth in section 2, the ITAO shall:

(a) support executive departments and agencies in Iraq in their implementation of United States Government foreign assistance in Iraq;

(b) continue coordination, oversight, and reporting concerning remaining Iraq Relief and Reconstruction Fund (IRRF) monies;

(c) assume the functions assigned to the Iraq Reconstruction Management Office (IRMO) remaining as of the date of this order; and

(d) perform such other functions related to the specific project set forth in section 2 as the Secretary of State (Secretary) may assign.

Sec. 4. Personnel and Administration. (a) The ITAO shall be headed by a Director selected by the Secretary.

(b) The Secretary shall transfer from the IRMO to the ITAO the personnel, assets, liabilities, and records of the IRMO.

Sec. 5. General Provisions. (a) This order shall be implemented in accordance with applicable law, subject to the availability of appropriations, and consistent with presidential guidance.

(b) This order is not intended to, and does not, create any right, benefit, or privilege, substantive or procedural, enforceable at law or in equity by any party against the United States, its departments, agencies, instrumentalities, or entities, its officers or employees, or any other person.

(c) The ITAO shall terminate at the end of the maximum period permitted by section 3161(a)(1) of title 5, United States Code, unless sooner terminated by the Secretary.

THE WHITE HOUSE,

May 8, 2007.

[FR Doc. 07-2367

Filed 5-10-07; 8:45 am]

Billing code 3195-01-P